OFFICE OF MANAGEMENT AND BUDGET

Proposed Revision of the Policy on Web Tracking Technologies for Federal Web Sites

AGENCY: Office of Management and Budget, Executive Office of the President.

ACTION: Request for comments.

SUMMARY: The Office of Management and Budget (OMB) is considering options for revising the current prohibition on Web tracking technologies (such as persistent cookies) and invites public comments on the policy that would govern the use of such technologies. The goal of this review is for the Federal Government to continue to protect the privacy of people who visit Federal Government Web sites while at the same time making these Web sites more user-friendly, providing better customer service, and allowing for enhanced Web analytics.

DATES: Comments must be received by August 10, 2009.

ADDRESSES: Submit comments by one of the following methods:

• Web site: http://www.regulations.gov.

• Web site: http://www.whitehouse.gov/open. Click the link to “Federal Web sites Cookie Policy Forum” and follow the instructions for submitting comments electronically.

• E-mail: oira_submission@omb.eop.gov.

• Fax: (202) 395-7245

Comments submitted in response to this notice will be made available to the public through the relevant Web sites. For this reason, please do not include in your comments information of a confidential nature, such as sensitive personal information or proprietary information. If you send an e-mail comment, your e-mail address will be automatically captured and included as part of the comment that is placed in the public docket and made available on the Internet.

Relevant comments submitted through the White House Open Government Initiative will be taken into consideration alongside those received in response to this notice.

FOR FURTHER INFORMATION CONTACT: Mabel Echols, Office of Information and Regulatory Affairs, Records Management Center, Office of Management and Budget, Room 10102, NEOB, 725 17th Street, NW., Washington, DC 20503. Telephone: (202) 395-6880.

Copies of OMB memoranda M-00-13 and M-03-22 are available on OMB's Web site at http://www.whitehouse.gov/omb/memoranda_default/.

SUPPLEMENTARY INFORMATION: On June 22, 2000, OMB issued memorandum M-00-13, which was later updated by memorandum M-03-22, prohibiting the use of Web tracking technologies unless the agency head approves the use of these technologies due to a compelling need.

During the past nine years, Web tracking technologies have become a staple on most commercial Web sites with widespread public acceptance of their use. Technologies such as persistent cookies enable Web sites to remember a visitor's preferences and settings, allowing for a more personalized, user-friendly experience. Moreover, such technologies are necessary for accurate analytics of Web traffic, which helps to inform decisions about how to improve a Web site so that it can better serve the public.

While the benefits of using Web tracking technologies are clear, OMB is acutely aware of, and sensitive to, the privacy questions raised by the use of such technologies. Any evaluation of revisions to the current prohibition must consider, and address, potential risks to privacy.

Under a framework that we are considering, any Federal agency using Web tracking technologies on a Federal Government Web site would be subject to basic principles governing the use of such technologies and would be required to:

• Adhere to all existing laws and policies (including those designed to protect privacy) governing the collection, use, retention, and safeguarding of any data gathered from users;

• Post clear and conspicuous notice on the Web site of the use of Web tracking technologies;

• Provide a clear and understandable means for a user to opt-out of being tracked; and

• Not discriminate against those users who decide to opt-out, in terms of their access to information.

OMB is currently considering the application of a three-tiered approach to the use of Web tracking technologies on Federal Government Web sites. A set of tiers that we are considering would be:

1st Single-session technologies—which track users over a single session and do not maintain tracking data over multiple sessions or visits;

2nd Multi-session technologies for use in Web analytics—which track users over multiple sessions purely to gather data to analyze Web traffic statistics; and

3rd Multi-session technologies for use as persistent identifiers—which track users over multiple visits with the intent of remembering data, settings, or preferences unique to that visitor for purposes beyond what is needed for Web analytics.

It is anticipated that there would be more stringent restrictions or review of the uses of such technologies within the tiers that have higher privacy risks associated with them.

OMB invites public comment on the framework that should govern Federal agency use of Web tracking technologies, including such topics as:

• The appropriate tiers;

• The acceptable use and restrictions of each tier;

• The basic principles governing the use of such technologies;

• The degree of clear and conspicuous notice on each Web site that Web tracking technologies are being used;

• The applicability and scope of such a framework on Federal agency use of third-party applications or Web sites;

• The choice between an opt-in versus opt-out approach for users;

• Unintended or non-obvious privacy implications; and

• Any other general comments with respect to this issue.

Kevin F. Neyland,
Acting Administrator, Office of Information and Regulatory Affairs.

[FR Doc. E9-17756 Filed 7-24-09; 8:45 am]

BILLING CODE 3110-01-P